ENVIRONMENTAL PROTECTION AGENCY

40 CFR Part 272

[EPA-R10-RCRA-2011-0973; FRL-9706-9]

Idaho: Incorporation by Reference of Approved State Hazardous Waste Management Program

AGENCY: Environmental Protection Agency (EPA).

ACTION: Proposed rule.

SUMMARY: The EPA proposes to codify in the regulations entitled “Approved State Hazardous Waste Management Programs,” Idaho's authorized hazardous waste program. The EPA proposes to revise the codification of Idaho's program to incorporate by reference into the Code of Federal Regulations (CFR) those provisions of the State rules and regulations that are authorized as of June 11, 2012, and that the EPA will enforce under Subchapter C of the Resource Conversation and Recovery Act (RCRA).

DATES: Send written comments by October 31, 2012.

ADDRESSES: Send written comments to Nina Kocourek, U.S. EPA, Region 10, 1200 Sixth Avenue, Suite 900, Mail Stop AWT-122, Seattle, WA 98101. You may also submit comments electronically or through hand delivery/courier; please follow the detailed instructions in the ADDRESSES section of the direct final rule which is located in the Rules section of this Federal Register.

FOR FURTHER INFORMATION CONTACT: Nina Kocourek, U.S. EPA, Region 10, 1200 Sixth Avenue, Mail stop WCM-122, Seattle, WA 98101, Email: kocourek.nina@epa.gov, phone number (206) 553-6502.

SUPPLEMENTARY INFORMATION: In the “Rules and Regulations” section of this Federal Register, the EPA is codifying and incorporating by reference the State's hazardous waste program as a direct final rule. The EPA believes this action is not controversial and does not expect comments to oppose the codification. We have explained the reasons for this codification and incorporation by reference in the preamble to the direct final rule. Unless we get written comments which oppose this incorporation by reference during the comment period, the direct final rule will become effective on the effective date described in the direct final rule and we will not take further action on this proposal. If the EPA receives comments that oppose the codification, the EPA will withdraw the direct final rule and it will not take effect. EPA will then respond to public comments in a later final rule based on this proposal. You may not have another opportunity for comment. If you want to comment on this action, you must do so at this time. For additional information, please see the direct final rule published in the “Rules and Regulations” section of this Federal Register.

Authority: This action is issued under the authority of Sections 2002(a), 3006 and 7004(b) of the Solid Waste and Disposal Act, as amended, 42 U.S.C. 6912(a), 6926, 6974(b).

Dated: July 24, 2012.
Dennis J. McLerran,
Regional Administrator, EPA Region 10.

[FR Doc. 2012-23976 Filed 9-28-12; 8:45 am]

BILLING CODE 6560-50-P